MARINE MAMMAL COMMISSION

Meeting of Advisory Committee on Acoustic Impacts on Marine Mammals

AGENCY: Marine Mammal Commission.

ACTION: Notice of advisory committee meeting.

SUMMARY: The Marine Mammal Commission (Commission) is pleased to announce the first meeting of the Advisory Committee on Acoustic Impacts on Marine Mammals (Committee) in Bethesda, MD.

DATES: This public meeting will be held Tuesday, February 3, from 9 a.m. to 5:30 p.m.; Wednesday, February 4, from 9 a.m. to 5 p.m.; and Thursday, February 5, from 8 a.m. to 4:30 p.m., 2004. These times and the agenda topics described below are subject to change. Please refer to the Commission's webpage for the most up-to-date meeting information. The Committee's second public meeting is tentatively scheduled for April 28-30, 2004, in the Washington, DC, metropolitan area. Further information on that meeting will be published in the Federal Register and posted on the Commission's Web site.

ADDRESSES: The February 3-5 meeting will be held at the Bethesda Marriott Hotel, 5151 Pooks Hill Road, Bethesda, MD 20814, (301) 897-9400, http://marriott.com/property/propertyPage/WASBT.

FOR FURTHER INFORMATION CONTACT: Erin Vos, Sound Project Manager, Marine Mammal Commission, 4340 East-West Hwy., Rm. 905, Bethesda, MD 20814, e-mail: evos@mmc.gov, tel.: (301) 504-0087, fax: (301) 504-0099; or visit the Commission Web site at www.mmc.gov.

SUPPLEMENTARY INFORMATION: This meeting is to be held pursuant to the directive in the Omnibus Appropriations Act of 2003 (Pub. L. 108-7) that the Commission convene a conference or series of conferences to “share findings, survey acoustic ‘threats’ to marine mammals, and develop means of reducing those threats while maintaining the oceans as a global highway of international commerce.” The meeting agenda will include presentations and panel discussions on (1) the basics of sound in the ocean, (2) sound sources of interest or concern for marine mammals, (3) the uses and characteristics anthropogenic sound in the marine environment, (4) the impacts of sound on marine mammals, and (5) the relevant U.S. governmental authorities. The agenda will also include two public comment sessions and one set of facilitated small-group discussions. Guidelines for making public comments, background documents, and the meeting agenda, including the specific times of public comment periods, will be posted on the Commission's Web site prior to the meeting. Written comments can be submitted at the meeting.

Dated: January 9, 2004.
David Cottingham,
Executive Director.

[FR Doc. 04-865 Filed 1-14-04; 8:45 am]

BILLING CODE 6820-31-M